DEPARTMENT OF STATE

[Public Notice: 6907; OMB Control Number 1405-0150]

30-Day Notice of Proposed Information Collection: DS 3072, Emergency Loan Application and Evacuation Documentation

ACTION: Notice of request for public comment and submission to OMB of proposed collection of information.

SUMMARY: The Department of State has submitted the following information collection request to the Office of Management and Budget (OMB) for approval in accordance with the Paperwork Reduction Act of 1995.

• Title of Information Collection: Emergency Loan Application and Evacuation Documentation.

• OMB Control Number: OMB Control Number 1405-0150.

• Type of Request: Revision of a Currently Approved Collection.

• Originating Office: Bureau of Consular Affairs, Overseas Citizens Services (CA/OCS).

• Form Number: DS 3072.

• Respondents: U.S. Citizens applying for emergency loan assistance or evacuation processing.

• Estimated Number of Respondents: 1,176.

• Estimated Number of Responses: 1,176.

• Average Hours per Response: 10 minutes.

• Total Estimated Burden: 196 hours.

• Frequency: On Occasion.

• Obligation to Respond: Required to Obtain or Retain a Benefit.

DATES: Submit comments to the Office of Management and Budget (OMB) for up to 30 days from February 26, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Derek A Rivers, Bureau of Consular Affairs, Overseas Citizens Services (CA/OCS/PRI), U.S. Department of State, SA-29, 4th Floor, Washington, DC 20520, who may be reached on (202) 736-9082 or at ASKPRI@state.gov.

SUPPLEMENTARY INFORMATION: We are soliciting public comments to permit the Department to:

• Evaluate whether the proposed information collection is necessary to properly perform our functions;

• Evaluate the accuracy of our estimate of the burden of the proposed collection; including the validity of the methodology and assumptions used;

• Enhance the quality, utility, and clarity of the information to be collected;

• Minimize the reporting burden on those who are to respond.

Abstract of Proposed Collection

The purpose of the DS-3072 is to process emergency loans for destitute citizens and to document the safe and efficient evacuation of private U.S. citizens, dependents and third country nationals from abroad. The information will be used to process the emergency loan, facilitate reception and resettlement assistance in the United States and for debt collection. Respondents are private U.S. citizens and their dependents abroad who are destitute and in need of repatriation to the United States; private U.S. citizens and their dependents abroad who are in need of emergency medical and dietary assistance who are unable to obtain such services otherwise; and private U.S. citizens abroad and their dependents and third country nationals who are in need of evacuation when their lives are endangered by war, civil unrest, or natural disaster.

Methodology

The Bureau of Consular Affairs will be posting this form on Department of State Web sites to give respondents the opportunity to fill the form out online or print out the form and fill it out manually and submit the form in person or by fax or mail.

Dated: January 29, 2009.
Mary Ellen Hickey,
Managing Director, Bureau of Consular Affairs, Department of State.

[FR Doc. 2010-4022 Filed 2-25-10; 8:45 am]

BILLING CODE 4710-06-P